NATIONAL AERONAUTICS AND SPACE ADMINISTRATION

[Notice: (16-048)]

NASA Advisory Council; Aeronautics Committee; Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council (NAC). This Committee reports to the NAC. The meeting will be held for the purpose of soliciting, from the aeronautics community and other persons, research and technical information relevant to program planning.

DATES: Tuesday, July 26, 2016, 10:00 a.m.-4:30 p.m., Local Time.

ADDRESSES: Ohio Aerospace Institute, Industry Room A, 22800 Cedar Point Road, Cleveland, Ohio 44142

FOR FURTHER INFORMATION CONTACT: Ms. Irma Rodriguez, Executive Secretary for the NAC Aeronautics Committee, NASA Headquarters, Washington, DC 20546, (202) 358-0984, or irma.c.rodriguez@nasa.gov.

SUPPLEMENTARY INFORMATION: The meeting will be open to the public up to the capacity of the room. This meeting will also be available telephonically and by WebEx. You must use a touch-tone phone to participate in this meeting. Any person interested in joining the meeting by telephone and WebEx should contact Ms. Irma Rodriguez at (202) 358-0984 for the toll-free number, Web link and passcode. The agenda for the meeting includes the following topics:

• National Research Council-Led Low Carbon Study

• Thrust 4 Roadmaps Out Brief

• New Aviation Horizons Formulation Rationale and Approach

Attendees will be required to sign a register. It is imperative that the meeting be held on this date to accommodate the scheduling priorities of the key participants.

Patricia D. Rausch,
Advisory Committee Management Officer, National Aeronautics and Space Administration.

[FR Doc. 2016-16183 Filed 7-7-16; 8:45 am]

BILLING CODE 7510-13-P